DEPARTMENT OF THE INTERIOR

Bureau of Land Management

[CA-160-1430-ET; CACA 7820]

Public Land Order No. 7435; Revocation of Public Land Order No. 460; California

AGENCY: Bureau of Land Management, Interior.

ACTION: Public Land Order.

SUMMARY: This order revokes a public land order in its entirety as to the remaining 80 acres of land withdrawn in contemplation of inclusion into Naval Petroleum Reserve No. 1. The land is no longer needed for the purpose for which it was withdrawn. This action will open the 80 acres to surface entry, mining, and mineral leasing.

EFFECTIVE DATE: April 24, 2000.

FOR FURTHER INFORMATION CONTACT: Duane Marti, BLM California State Office (CA-931.4), 2800 Cottage Way, Sacramento, California 95825; 916-978-4675.

By virtue of the authority vested in the Secretary of the Interior by Section 204 of the Federal Land Policy and Management Act of 1976, 43 U.S.C. 1714 (1994), it is ordered as follows:

1. Public Land Order No. 460, which withdrew public land in contemplation of inclusion into Naval Petroleum Reserve No. 1, is hereby revoked in its entirety as it affects the following described land:

Mount Diablo Meridian

T. 31 S., R. 24 E.,

Sec. 14, N½W¼.

The area described contains 80 acres in Kern County.

2. At 10 a.m. on April 24, 2000, the land will be opened to the operation of the public land laws generally, subject to valid existing rights, the provisions of existing withdrawals, other segregations of record, and the requirements of applicable law. All valid applications received at or prior to 10 a.m. on April 24, 2000, shall be considered as simultaneously filed at that time. Those received thereafter shall be considered in the order of filing.

3. At 10 a.m. on April 24, 2000, the land will be opened to location and entry under the United States mining laws and to the operation of the mineral leasing laws, subject to valid existing rights, the provisions of existing withdrawals, other segregations of record, and the requirements of applicable law. Appropriation of any of the land described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determination in local courts.

Dated: March 10, 2000.
Kevin Gover,
Assistant Secretary of the Interior.

[FR Doc. 00-7213 Filed 3-22-00; 8:45 am]

BILLING CODE 4310-40-P